SUSQUEHANNA RIVER BASIN COMMISSION

Public Review and Comment; Public Hearing—2013 Update of Comprehensive Plan

AGENCY: Susquehanna River Basin Commission.

ACTION: Notice.

SUMMARY: On June 20, 2013, the Susquehanna River Basin Commission released a proposed 2013 Update of the Comprehensive Plan for the Water Resources of the Susquehanna River Basin Commission (2013 Update of the Comprehensive Plan) for public review and comment. In accordance with Section 14.1 of the Susquehanna River Basin Compact, the Commission shall develop and adopt, and may from time to time review and revise a comprehensive plan for management of the basin's water resources. As part of the public comment process, the Commission will hold a public hearing to hear testimony on the 2013 Update of the Comprehensive Plan. Written comments may be submitted at any time during the public comment period.

DATES: The public hearing will convene on August 15, 2013, at 3:00 p.m. The public hearing will end at 5:00 p.m. or at the conclusion of public testimony, whichever is sooner. The deadline for the submission of written comments is August 26, 2013, at which time the public comment period will close.

ADDRESSES: The public hearing will be conducted at the Pennsylvania State Capitol, Room 8E-B, East Wing, Commonwealth Avenue, Harrisburg, Pa.

FOR FURTHER INFORMATION CONTACT: Richard A. Cairo, General Counsel, telephone: (717) 238-0423, ext. 306; fax: (717) 238-2436.

The 2013 Update of the Comprehensive Plan for the Water Resources of the Susquehanna River Basin and other related information are available at http://www.srbc.net/planning/compplanfiles.asp.

Opportunity To Appear and Comment

At the public hearing for the 2013 Update to the Comprehensive Plan, interested parties may appear at the hearing to offer comments to the Commission. The presiding officer reserves the right to limit oral statements in the interest of time and to otherwise control the course of the hearing. Ground rules will be posted on the Commission's Web site, www.srbc.net, prior to the hearing for review. The presiding officer reserves the right to modify or supplement such rules at the hearing. Written comments may be mailed to Mr. Richard Cairo, General Counsel, Susquehanna River Basin Commission, 1721 North Front Street, Harrisburg, Pa. 17102-2391, or submitted electronically through http://www.srbc.net/pubinfo/publicparticipation.htm. Comments mailed or electronically submitted must be received by the Commission on or before August 26, 2013, to be considered.

SUPPLEMENTARY INFORMATION: On June 20, 2013, the Susquehanna River Basin Commission released a proposed 2013 Update of the Comprehensive Plan for public review and comment. The public should take note that the August 15, 2013, public hearing will be the only opportunity to offer oral comment to the Commission on the 2013 Update of the Comprehensive Plan. Written comments may be submitted at any time during the public comment period, which closes on August 26, 2013. The 2013 Update of the Comprehensive Plan is intended to be scheduled for Commission action at a future business meeting, tentatively scheduled for December 12, 2013, which will be noticed separately.

Authority: Pub. L. 91-575, 84 Stat. 1509 et seq., 18 CFR parts 806, 807, and 808.

Dated: June 21, 2013.
Paul O. Swartz,
Executive Director.

[FR Doc. 2013-15419 Filed 6-26-13; 8:45 am]

BILLING CODE 7040-01-P